ENVIRONMENTAL PROTECTION AGENCY

[ER-FRL-6629-8]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 12, 2002 (67 FR 17992).

Draft EISs

ERP No. D-FAA-B51020-CT Rating EC2, Groton-New London Airport, Construction of Runway 5-23 Safety Area, Permits and Approvals, Town of Groton, New London County, CT.

Summary: EPA has environmental concerns and requested additional information regarding alternatives, impacts and mitigation associated with the proposed project.

ERP No. D-HHS-E80003-GA Rating LO, Chamblee Campus Centers for Disease Control and Prevention (CDC) Expansion, Atlanta Metro Area, City of Chamblee, Dekalb County, GA.

Summary: While EPA has no objection to the proposed action, EPA did request that some additional information be provided to help clarify certain issues.

ERP No. DS-AFS-E65036-00 Rating NC, Vegetation Management in the Coastal Plain/ Piedmont, Proposal to Clarify Direction for Conducting Project-Level Inventories for Biological Evaluations (BEs), US Forest Service Southern Region, AL, GA, FL, SC, NC, LA, MS and TX.

Summary: No formal comment letter was sent to the preparing agency.

ERP No. DS-AFS-E65037-00 Rating NC, Vegetation Management in the Appalachian Mountains, Proposal to Clarify Direction for Conducting Project-Level Inventories for Biological Evaluations (BEs), AL, GA, KY, NC, SC, TN, VA and WV.

Summary: No formal comment letter was sent to the preparing agency.

ERP No. DS-NPS-J61102-00 Rating EO2, Yellowstone and Grand Teton National Parks and John D. Rockefeller, Jr., Memorial Parkway, Winter Use Plans, Updated and New Information on New Generation of Snowmobiles that Produce fewer Emissions and are Quieter, Fremont County, ID; Gallatin and Park Counties, MT and Park and Teton Counties, WY.

Summary: EPA expressed environmental objections based on the potential adverse impacts from three action alternatives, 1b, 2 and 3 which could result in noncompliance with air quality standards and potential adverse impacts on human health.

Final EISs

ERP No. F-AFS-B65009-NH Loon Mountain Ski Resort Development and Expansion Project, Implementation, Special Use Permit and NPDES Permit Issuance, White Mountain National Forest, Pemgewasset Ranger District, Grafton County, NH.

Summary: EPA expressed environmental concerns about growth impacts and associated mitigation and made recommendations about hydrogeologic and air quality issues.

ERP No. F-FHW-E40781-TN I-40 Transportation Improvements from I-75 to Cherry Street in Knoxville, Funding, NPDES and US Army COE Section 404 Permits Issuance, Knox County, TN.

Summary: EPA continues to have environmental concerns regarding noise and cultural resources impacts. EPA supports the construction of noise barriers that were proposed but were not committed to be constructed.

Dated: May 28, 2002.
Joseph C. Montgomery,
Director, NEPA Compliance Division, Office of Federal Activities.

[FR Doc. 02-13691 Filed 5-30-02; 8:45 am]

BILLING CODE 6560-50-P